DEPARTMENT OF ENERGY

Federal Energy Regulatory Commission

[Docket No. EL15-42-000]

FortisUS Energy Corporation, Central Hudson Gas & Electric Corporation, Tucson Electric Power Company, UNS Electric, Inc., UniSource Energy Development Company; Notice of Institution of Section 206 Proceeding and Refund Effective Date

On February 27, 2015, the Commission issued an order in Docket No. EL15-42-000, pursuant to section 206 of the Federal Power Act (FPA), 16 U.S.C. 824e (2012), instituting an investigation concerning the justness and reasonableness of the Fortis MBR Sellers' market-based rates in the Tucson Electric balancing authority area.¹ FortisUS Energy Corporation, et al., 150 FERC ¶ 61,153 (2015).

¹ For the purpose of this filing, the Fortis MBR Sellers include: FortisUS Energy Corporation; Central Hudson Gas and Electric Corporation; Tucson Electric Power Company (Tucson Electric); UNS Electric, Inc.; and UniSource Energy Development Company.

The refund effective date in Docket No. EL15-42-000, established pursuant to section 206(b) of the FPA, will be the date of publication of this notice in the Federal Register.

Dated: February 27, 2015.
Nathaniel J. Davis, Sr.,
Deputy Secretary.

[FR Doc. 2015-05254 Filed 3-5-15; 8:45 am]

BILLING CODE 6717-01-P